DEPARTMENT OF COMMERCE

Foreign-Trade Zones Board

[Docket A(32(c)-11-2001)]

Scope Determination Regarding the Effect on Foreign-Trade Zone Board Orders Resulting From Modifications to the Harmonized Tariff Schedule of the United States

Summary: Pursuant to section 400.32 (c) of the FTZ Board regulations (15 CFR part 400), it has been determined that the scope of FTZ Board Orders will not be affected by the January 2002 modification of the Harmonized Tariff Schedule of the United States (HTSUS).

As proposed, on January 1, 2002, modifications will take effect that will change the HTSUS classification numbers for certain product categories. Some Foreign-Trade Zone (FTZ) Board Orders, particularly orders relating to oil refinery subzones, contain references to HTSUS numbers. Such references were intended to describe types of products that were either included in or excluded from the scope of Board actions. The scope of FTZ Board Orders will continue to apply to those products as described in the orders and related appendices, even though the HTSUS number describing the product may change. The scope of FTZ Board Orders should be interpreted as applying to the new HTSUS numbers based on the cross reference table published in the International Trade Commission's (ITC) report, “Proposed Modifications to the Harmonized Tariff Schedule of the United States” (USITC Publication 3430, June 2001). The full report is available on the ITC website: http://www.usitc.gov/332s/332index.htm#SECTION 1205.

Background: In November 1999, the ITC opened investigation No. 1205-5, Proposed Modifications to the Harmonized Tariff Schedule of the United States, in accordance with Section 1205 of the Omnibus Trade and Competitiveness Act of 1988. Under Section 1205, the ITC is charged with reviewing the HTS and recommending modifications when amendments are adopted by the World Customs Organization. The majority of current modifications to the tariff schedule are the result of sessions that took place between October 1993 and May 1999. Any changes to tariff rates are independent of the modification.

The following table provides an example of the HTSUS changes relating to FTZ Board Orders for oil refinery subzones. It is not inclusive.

Current HTS No. | New HTS No.
2710.00.05 | 2710.99.16
2710.00.05 | 2710.99.05
2710.00.05 | 2710.19.05
2710.00.10 | 2710.99.10
2710.00.10 | 2710.19.10
2710.00.20 | 2710.99.21
2710.00.20 | 2710.19.23
2710.00.25 | 2710.99.21
2710.00.25 | 2710.11.25
2710.00.45 | 2710.99.45
2710.00.45 | 2710.19.45
2710.00.45 | 2710.91.00
2710.00.45 | 2710.11.45

For Further Information Contact: Liz Whiteman or Diane Finver (202-482-2862), Foreign-Trade-Zones Board, U.S. Department of Commerce, FCB—Suite 4100W, 1401 Constitution Ave., NW, Washington, DC 20230.

Dated: December 17, 2001.
Dennis Puccinelli,
Executive Secretary.

[FR Doc. 01-31983 Filed 12-27-01; 8:45 am]

BILLING CODE 3510-DS-P